DEPARTMENT OF HOUSING AND URBAN DEVELOPMENT

Office of Federal Housing Enterprise Oversight

12 CFR Part 1700

RIN 2550-AA33

Organization and Functions

AGENCY: Office of Federal Housing Enterprise Oversight, HUD.

ACTION: Final rule.

SUMMARY: The Office of Federal Housing Enterprise Oversight (OFHEO) is revising the regulation that describes its organization and functions. The revisions reflect changes in OFHEO's organizational structure and the functional responsibilities of some of its offices.

DATES: The final regulation is effective October 13, 2005.

FOR FURTHER INFORMATION CONTACT: Mary Alice Donner, Senior Counsel, telephone (202) 343-1319 (not a toll-free number); Office of Federal Housing Enterprise Oversight, Fourth Floor, 1700 G Street, NW., Washington, DC 20552. The telephone number for the Telecommunications Device for the Deaf is (800) 877-8339.

SUPPLEMENTARY INFORMATION:

Discussion of Final Regulation

This final regulation informs the public about structural and functional changes within OFHEO that were recently implemented by the Acting Director. Changes in OFHEO's structure consist of the establishment of a new Office of Executive Director, and the establishment of the Offices of Human Resources Management and of Budget and Financial Management. The Office of Human Resources Management and the Office of Budget and Financial Management will assume the functions of the former Office of Finance and Administration, among other responsibilities. The Office of Executive Director is headed by the Executive Director and Chief of Staff, and consists of the Office of Budget and Financial Management, Office of Human Resources Management, the Office of Technology and Information Management, and the Office of Strategic Planning and Management. The Office of Information Technology is renamed Office of Technology and Information Management to reflect more accurately the nature and scope of that Office's responsibilities.

In promulgating this regulation, OFHEO finds that notice and public comment are not necessary. Section 553(b)(3)(A) of title 5, United States Code, provides that when regulations involve matters of agency organization, procedure or practice, the agency may publish regulations in final form. In addition, OFHEO finds, in accordance with 5 U.S.C. 553(d), that a delayed effective date is unnecessary. Accordingly, this regulation is effective upon publication.

Regulatory Impact

Executive Order 12866, Regulatory Planning and Review

The final regulation is not classified as an economically significant rule under Executive Order 12866 because it would not result in an annual effect on the economy of $100 million or more or a major increase in costs or prices for consumers, individual industries, Federal, state, or local government agencies, or geographic regions; or have significant adverse effects on competition, employment, investment, productivity, innovation, or on the ability of United States-based enterprises to compete with foreign-based enterprises in domestic or foreign markets. Accordingly, no regulatory impact assessment is required and this final regulation has not been submitted to the Office of Management and Budget for review.

Executive Order 13132, Federalism

Executive Order 13132 requires that Executive departments and agencies identify regulatory actions that have significant federalism implications. A regulation has federalism implications if it has substantial direct effects on the states, on the relationship or distribution of power between the Federal Government and the states, or on the distribution of power and responsibilities among various levels of government. The final regulation has no federalism implications that warrant the preparation of a federalism assessment in accordance with Executive Order 13132.

Regulatory Flexibility Act

The Regulatory Flexibility Act (5 U.S.C. 601 et seq.) requires that a regulation that has a significant economic impact on a substantial number of small entities, small businesses, or small organizations include an initial regulatory flexibility analysis describing the regulation's impact on small entities. Such an analysis need not be undertaken if the agency has certified that the regulation will not have a significant economic impact on a substantial number of small entities, 5 U.S.C. 605(b). OFHEO has considered the impact of the final regulation under the Regulatory Flexibility Act. The Acting General Counsel of OFHEO certifies that the final regulation will not have a significant economic impact on a substantial number of small business entities.

Paperwork Reduction Act

This final regulation does not contain any information collection requirements that require the approval of the Office of Management and Budget under the Paperwork Reduction Act (44 U.S.C. 3501 et seq.).

List of Subjects in 12 CFR Part 1700

Organization and functions (Government Agencies).

Accordingly, for the reasons stated in the Preamble, OFHEO amends 12 CFR part 1700 to read as follows:

PART 1700—ORGANIZATION AND FUNCTIONS

1. The authority citation for part 1700 continues to read as follows:

Authority: 5 U.S.C. 552; 12 U.S.C. 4513 and 4526.

2. Amend § 1700.2 as follows:

a. Remove paragraphs (c)(3), (c)(7), and (c)(8).

b. Redesignate paragraphs (c) and (d) as paragraphs (d) and (e), respectively.

c. Redesignate newly designated paragraphs (d)(1) and (d)(2) as paragraphs (d)(2) and (d)(3).

d. Redesignate newly designated paragraphs (d)(9) and (d)(10) as paragraphs (d)(7) and (d)(8).

e. Add a new paragraph (c) and a new paragraph (d)(1) to read as follows:

§ 1700.2 Organization of the Office of Federal Housing Enterprise Oversight.

* * * * *

(c) Executive Director and Chief of Staff. The Executive Director and Chief of Staff of OFHEO heads the Office of Executive Director. The Executive Director and Chief of Staff reports to the Director and the Deputy Director. The Executive Director and Chief of Staff is the chief administrative officer of OFHEO, serves as a legal advisor on administrative matters, and coordinates communication and cooperation on administrative issues with the Office of General Counsel.

(d) Offices and functions. (1) Office of Executive Director. The Office of Executive Director consists of the Office of Budget and Financial Management, the Office of Human Resources Management, the Office of Technology and Information Management, and the Office of Strategic Planning and Management. The Office of Executive Director is responsible for OFHEO-wide management and oversight of all administrative matters.

* * * * *

Dated: October 4, 2005.
Stephen Blumenthal,
Acting Director, Office of Federal Housing Enterprise Oversight.

[FR Doc. 05-20471 Filed 10-12-05; 8:45 am]

BILLING CODE 4220-01-P